DEPARTMENT OF VETERANS AFFAIRS

[OMB Control No. 2900-0821]

Agency Information Collection Activity Under OMB Review: Certification Regarding Debarment, Suspension, Ineligibility and Voluntary Exclusion (Documents and Information Required for Specially Adapted Housing Assistive Technology Grant) and Scoring Criteria for SAH Assistive Technology Grants

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 30, 2018.

ADDRESSES: Submit written comments on the collection of information through www.Regulations.gov, or to Office of Information and Regulatory Affairs, Office of Management and Budget, Attn: VA Desk Officer; 725 17th St. NW, Washington, DC 20503 or sent through electronic mail to oira_submission@omb.eop_.gov. Please refer to “OMB Control No. 2900-0821” in any correspondence.

FOR FURTHER INFORMATION CONTACT: Cynthia Harvey-Pryor, Office of Quality, Privacy and Risk (005R1B), Department of Veterans Affairs , 810 Vermont Avenue NW, Washington, DC 20420, (202) 461-5870 or email Cynthia.Haryey-Pryor@va.gov. Please refer to “OMB Control No. 2900-0821” in any correspondence.

SUPPLEMENTARY INFORMATION:

Authority: Public Law 11-275; 38 U.S.C. 2108; 44 U.S.C. 3501-3521.

Title: Certification Regarding Debarment, Suspension, Ineligibility and Voluntary Exclusion (Documents and Information Required for Specially Adapted Housing Assistive Technology Grant), VA Form 26-0967 and Scoring Criteria for SAH Assistive Technology Grants, VA Form 26-0967a.

OMB Control Number: 2900-0821.

Type of Review: Extension of a currently approved collection.

Abstract: Title 38, U.S.C., chapter 21, authorizes a VA program of grants for specially adapted housing for disabled veterans or servicemembers. Section 2101(a) of this chapter specifically outlines those determinations that must be made by VA before such grant is approved for a particular veteran or servicemember. VA Form 26-0967 and VA Form 26-0967a are used to collect information that is necessary for VA to meet the requirements of 38 U.S.C. 2101(a). (Also, see 38 CFR 36.4402(a), 36-4404(a) and 36.4405.)

An agency may not conduct or sponsor, and a person is not required to respond to a collection of information unless it displays a currently valid OMB control number. The Federal Register Notice with a 60-day comment period soliciting comments on this collection of information was published at 83 FR 99 on May 22, 2018 and page 23767.

Affected Public: Individuals or Households.

Estimate: Annual Burden: 40 hours.

Estimated Average Burden per Respondent: 120 minutes.

Frequency of Response: One time.

Estimated Number of Respondents: 20.

By direction of the Secretary.
Cynthia D. Harvey-Pryor,
Department Clearance Officer, Office of Quality, Privacy and Risk, Department of Veterans Affairs.

[FR Doc. 2018-13904 Filed 6-27-18; 8:45 am]

BILLING CODE 8320-01-P